DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Behavioral Health Information Technologies and Standards—In-Depth Qualitative Data Collection Activity—NEW

The Substance Abuse and Mental Health Services Administration (SAMHSA) Center for Substance Abuse Treatment (CSAT) and Center for Behavioral Health Statistics and Quality (CBHSQ) are proposing to conduct qualitative data collection activities (i.e., focus group and site visits) to assess health information technology (HIT) adoption practices among SAMHSA grantees. As part of its Strategic Initiative to advance the use of health information technologies to support integrated behavioral health care, SAMHSA has been working to develop questions that will examine HIT adoption by behavioral health service providers who are implementing SAMHSA grant programs. The selected programs are funded by the by the Center for Mental Health Services (CMHS), the Center for Substance Abuse Prevention (CSAP), and (CSAT).

This project seeks to expand data necessary to inform the Agency's strategic initiative that focuses on fostering the adoption of health information technologies in community behavioral health services. The qualitative activities will elicit success stories, challenges to adopting health information technologies, and lessons learned regarding SAMHSA grantee access to and use of health information technology and will provide valuable information to inform the behavioral health information technology literature.

Approval of this data collection effort by the Office of Management and Budget (OMB) will allow SAMHSA to identify the current status of health information technology adoption and use among a select group of grantees who have demonstrated success in at least one of the identified health information technology categories: Certified electronic health records, telehealth technologies, mobile health, and social media-based consumer engagement tools. Data from the focus groups and site visits will allow SAMHSA to enhance the health information technology-related programmatic activities among its grantees by providing data on how health information technologies facilitate the implementation of different types of SAMHSA grants; thereby fostering the appropriate adoption of health information technologies within SAMSHA-funded programs.

Ten (10) respective focus groups and site visit sessions will collect qualitative data to provide a snapshot view of the current state of health information technology adoption. The focus groups will include up to six participations per session and will be representative of the ten Department of Health and Human Services Regions. Site visit participants will be selected from among SAMHSA-funded grant programs and non-profit community behavioral health providers nominated by Project Officers as exemplars in the field of health information technologies, with recognized success in at least one of the four health information technology domain categories.

The proposed ten (10) in-person focus group sessions will not exceed 90-minutes in duration and will be limited to no less than six (6) and no more than (8) participants. The proposed ten (10) in-person site visit sessions will not exceed eight (8) hours in duration and will include, on average two (2) participants at any one time during the visit. The focus group and site visit sessions are expected to occur between the hours of 9:00 a.m. and 5:00 p.m. and will allow sufficient time for food and personal breaks. The total estimated burden to participate in the focus groups is 120 hours. The total estimated burden to participate in the site visits is 160 hours. The following table summarizes the estimated participation burden:

Focus Group and Site Visit Estimated Annual Hour Burden
Activity | Number of respondents | Number of responses annually per respondent | Total responses | Average hours per response | Total burden hours
Focus group | 80 | 1 | 80 | 1.5 | 120
Site Visits | 20 | 1 | 20 | 8 | 160
Total | 100 |  | 100 |  | 280

Written comments and recommendations concerning the proposed information collection should be sent by November 9, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-25660 Filed 10-7-15; 8:45 am]

BILLING CODE 4162-20-P